INTERNATIONAL TRADE COMMISSION

[Investigation No. 337-TA-687]

Certain Video Displays, Components Thereof, and Products Containing Same; Notice of Commission Determination To Terminate the Investigation Based on Settlement and Licensing Agreements

AGENCY: U.S. International Trade Commission.

ACTION: Notice.

SUMMARY: Notice is hereby given that the U.S. International Trade Commission has determined to terminate the above-captioned investigation based on settlement and licensing agreements.

FOR FURTHER INFORMATION CONTACT: Michael Liberman, Office of the General Counsel, U.S. International Trade Commission, 500 E Street, SW., Washington, DC 20436, telephone (202) 205-3116. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on September 16, 2009, based on a complaint filed by LG Electronics, Inc., alleging a violation of section 337 in the importation, sale for importation, and sale within the United States after importation of certain video displays, components thereof, or products containing same that infringe one or more of claims 24 and 25 of U.S. Patent No. 5,790,096; claims 1-9 of U.S. Patent No. 5,537,612 (“the `612 patent”); claim 1 of U.S. Patent No. 5,459,522; claims 1-5 and 7-16 of U.S. Patent No. 7,154,564 (“the `564 patent”). 74 FR 47616 (2009) Complainant named Funai Electric Company, Ltd. of Osaka, Japan, Funai Corporation, Inc. of Rutherford, New Jersey, P&F USA, Inc. of Alpharetta, Georgia (collectively, “Funai”), and Vizio, Inc. of Irvine, California as respondents. On January 8, 2010, the presiding ALJ issued an ID granting Complainant's motion for leave to file a second amended complaint and amend the notice of investigation to, inter alia, add AmTran Technology Co. Ltd. and AmTran Logistics, Inc. as respondents to the investigation. Subsequently, the Funai respondents were terminated from the investigation based on a settlement agreement.

The evidentiary hearing on violation of Section 337 was held from June 9, 2010 through June 21, 2010. On September 17, 2010, the ALJ issued his final ID finding a violation of section 337 with respect to one of the four asserted patents.

On November 19, 2010, the Commission determined to review the final ID with respect to certain matters relating to the `612 and `564 patents, and issued a notice, in which the Commission specified the issues under review and the questions pertaining to such issues. 75 FR 73126 (November 29, 2010).

On January 18, 2011, the private parties filed a joint motion to terminate the investigation based upon settlement and licensing agreements.

On the same day, the Commission determined to extend the target date for completion of this investigation by 21 days, i.e., from January 18, 2011, to February 8, 2011. On January 21, 2011, the Commission investigative attorney filed a response in support of the motion to terminate.

The Commission has determined to grant the motion and thus terminate the investigation.

The authority for the Commission's determination is contained in section 337 of the Tariff Act of 1930, as amended (19 U.S.C. 1337), and Part 210 of the Commission's Rules of Practice and Procedure (19 CFR part 210).

Issued: February 4, 2011.
By order of the Commission.
William R. Bishop,
Hearings and Meeting Coordinator.

[FR Doc. 2011-2960 Filed 2-9-11; 8:45 am]

BILLING CODE P